DEPARTMENT OF TRANSPORTATION

Office of the Secretary

[Docket No. DOT-OST-2012-0087]

Advisory Committee for Aviation Consumer Protection

AGENCY: Office of the Secretary (OST), Department of Transportation (DOT).

ACTION: Notice of fourth meeting of advisory committee.

SUMMARY: This notice announces the fourth meeting of the Advisory Committee for Aviation Consumer Protection.

DATES: The fourth meeting of the advisory committee is scheduled for May 21, 2013, from 9:00 a.m. to 5:00 p.m., Eastern Time.

ADDRESSES: The meeting will be held in the Federal Aviation Administration's auditorium on the 3rd floor of the FAA Headquarters building at 800 Independence Avenue SW., Washington, DC 20591. Attendance is open to the public up to the room's capacity; however, since access to the FAA headquarters building is controlled for security purposes, any member of the general public who plans to attend this meeting must notify the Department contact identified below at least five (5) calendar days prior to the meeting date.

FOR FURTHER INFORMATION CONTACT: To register to attend the meeting, please contact Jessica Payne, Principal Research Analyst, (703) 894-6560, or Amanda Stokes, Associate Research Analyst (703) 894-6529, Centra Technology, Inc., ACACP@centratechnology.com. For other information please contact Nicholas Lowry, Senior Attorney, Office of Aviation Enforcement and Proceedings, nick.lowry@dot.gov; U.S. Department of Transportation, 1200 New Jersey Ave. SE., Washington, DC, 20590; 202-366-9342 (phone), 202-366-7152 (fax).

SUPPLEMENTARY INFORMATION: On May 24, 2012, the Secretary, as mandated by Section 411 of the FAA Modernization and Reform Act of 2012 (Pub. L. 112-95, 126 Stat. 11 (2012)), established the Advisory Committee on Aviation Consumer Protection and announced those persons appointed as members. The committee's charter, drafted in accordance with the Federal Advisory Committee Act (FACA), as amended, 5 U.S.C. App. 2, sets forth policies for the operation of the advisory committee and is available on the Department's Web site at http://www.dot.gov/affairs/2012/dot5912.html.

The fourth meeting of the committee is scheduled for Tuesday, May 21, 2013, from 9:00 a.m. to 5:00 p.m. Eastern Time in the auditorium of the Federal Aviation Administration at its headquarters building, 800 Independence Ave. SW., Washington, DC 20591. At the meeting, staff members from the DOT's Office of Aviation Enforcement and Proceedings (Enforcement Office) will describe the steps taken by the Department to implement the committee's first set of recommendations to the Secretary and provide an update on the status of on-going rulemaking and enforcement initiatives affecting consumer protection in air travel. The meeting will also address privacy of personally identifiable information collected in connection with the purchase of air travel from airlines and travel agents. Issues to be addressed are: what information is collected and by whom; who retains information (airlines, travel agents, including on-line travel agents (OTAs), and global distribution systems (GDSs)); what privacy policies are in place and is information used consistent with those policies; and what security measures are in place to protect against unauthorized access? We plan on hearing from government representatives, as well as speakers from the airline and travel agent industry, including GDSs, online travel agents, and consumer groups on the privacy issue. In addition, the committee expects to discuss possible agenda items and the scheduling of future meetings.

As announced in the notices of previous meetings of the committee, the meeting will be open to the public, and written and, time permitting, oral comments by members of the public are invited. Members of the public may present written comments at any time. The docket number referenced above (OST-2012-0087, available at https://www.regulations.gov) has been established for committee documents including any written comments that may be filed. At the discretion of the Chairperson and time permitting, after completion of the planned agenda, individual members of the public may provide oral comments. Any oral comments presented must be limited to the objectives of the committee and will be limited to five (5) minutes per person. Individual members of the public who wish to present oral comments must notify the Department contact noted above via email that they wish to present oral comments at least five (5) calendar days prior to the meeting. Also, since access to the FAA headquarters building is controlled for security purposes, we ask that any member of the general public who plans to attend this meeting notify the Department contact noted above no later than five (5) calendar days prior to the meeting date (i.e., by May 16). Attendance will be necessarily limited by the size of the meeting room.

Persons with a disability who plan to attend the meeting and require special accommodations, such as an interpreter for the hearing impaired, should notify the Department contact noted above at least seven (7) calendar days prior to the meeting. Persons attending with a service animal should also advise us of that fact so that it can be taken into account in connection with space and possible allergy issues.

Notice of this meeting is being provided in accordance with the FACA and the General Services Administration regulations covering management of Federal advisory committees. (41 CFR part 102-3.)

Issued in Washington, DC, on April 29, 2013.
Samuel Podberesky,
Assistant General Counsel for Aviation Enforcement & Proceedings, U.S. Department of Transportation.

[FR Doc. 2013-10505 Filed 5-2-13; 8:45 am]

BILLING CODE 4910-9X-P